DEPARTMENT OF TRANSPORTATION

Federal Aviation Administration

14 CFR Part 39

[Docket No. FAA-2006-25232; Directorate Identifier 2006-NM-106-AD]

RIN 2120-AA64

Airworthiness Directives; BAE Systems (Operations) Limited Model BAe 146 and Avro 146-RJ Airplanes

AGENCY: Federal Aviation Administration (FAA), Department of Transportation (DOT).

ACTION: Notice of proposed rulemaking (NPRM).

SUMMARY: The FAA proposes to adopt a new airworthiness directive (AD) for certain BAE Systems (Operations) Limited Model BAe 146 and Avro 146-RJ airplanes. This proposed AD would require repetitive inspections of the wing top skin under the rib 0 joint strap, and related investigative and corrective actions if necessary. This proposed AD results from a report of a significant crack in the wing top skin under the rib 0 joint strap. We are proposing this AD to detect and correct corrosion and cracking in that area, which could result in reduced structural integrity of the wing.

DATES: We must receive comments on this proposed AD by August 2, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2006-25232; Directorate Identifier 2006-NM-106-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA) notified us that an unsafe condition may exist on certain BAE Systems (Operations) Limited Model BAe 146 and Avro 146-RJ airplanes. The EASA advises that a significant crack in the wing top skin under the rib 0 joint strap was found during a scheduled inspection of adjacent structure. This cracking may also occur on other airplanes having top wing skins made from the same aluminum alloy as the top wing skin on the subject airplane. Cracking in this area, if not corrected, could result in reduced structural integrity of the wing.

Relevant Service Information

The manufacturer has issued BAE Systems (Operations) Limited Alert Inspection Service Bulletin (ISB) ISB.57-a071, dated April 12, 2006. The ISB describes procedures for repetitive ultrasonic inspections for defects (including corrosion and cracking) of the wing top skin under the rib 0 joint strap, at the outer row of fasteners. The initial compliance time ranges from the earlier of 500 flights or 3 months (for airplanes with existing repairs and no previous inspection of the subject area) to the earlier of 4,000 flight cycles or 24 months (for airplanes previously inspected). For any defect found, the ISB specifies the related investigative actions of a radiographic inspection of the top wing skin to detect corrosion and cracking, and a high frequency eddy current inspection around the nuts of the stringer flanges to detect cracking and corrosion. The ISB describes the corrective actions of repairing the cracks or corrosion; alternatively, the ISB specifies operators may obtain an approved BAE Systems repair scheme.

Accomplishing the actions specified in the ISB is intended to adequately address the unsafe condition. The EASA mandated the ISB and issued emergency airworthiness directive 2006-0091-E, dated April 20, 2006, to ensure the continued airworthiness of these airplanes in the European Union.

The ISB refers to BAe 146 Series/AVRO-RJ Series Nondestructive Testing Manual 57-10-12, Revision 23, dated November 15, 2003, as an additional source of service information for the radiographic and high frequency eddy current inspections. The ISB refers to BAe Structural Repair Manual 57-10-15-001 as an additional source of service information for the repair.

FAA's Determination and Requirements of the Proposed AD

These airplane models are manufactured in the United Kingdom and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are proposing this AD, which would require accomplishing the actions specified in the ISB described previously, except as discussed below.

Differences Between the Proposed AD and ISB

The ISB allows, as an option, an approved BAE Systems repair scheme for repairing certain conditions, but this AD requires repairing those conditions using a method approved by the FAA or the EASA (or its delegated agent). In light of the type of repair required to address the unsafe condition, and consistent with existing bilateral airworthiness agreements, we have determined that, for this AD, a repair approved by the FAA or the EASA is acceptable for compliance with this AD.

Clarification of Compliance Time

This AD refers to compliance times specified in the ISB. However, the ISB does not provide a relevant point from which to measure the compliance time. This AD requires that the required actions be done within the specified compliance times after the effective date of this AD.

Costs of Compliance

The following table provides the estimated costs for U.S. operators to comply with this proposed AD, per inspection cycle.

Estimated Costs
Action | Work hours | Average labor rate per hour | Parts | Cost per airplane | Number of U.S.-registered airplanes | Fleet cost
Inspection | 6 | $80 | $0 | $480 | 10 | $4,800

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BAE Systems (Operations) Limited (Formerly British Aerospace Regional Aircraft): Docket No. FAA-2006-25232; Directorate Identifier 2006-NM-106-AD.

Comments Due Date

(a) The FAA must receive comments on this AD action by August 2, 2006.

Affected ADs

(b) None.

Applicability

(c) This AD applies to BAE Systems (Operations) Limited Model BAe 146-100A, -200A, and -300A series airplanes; and Avro 146-RJ70A, 146-RJ85A, and 146-RJ100A airplanes; certificated in any category; as identified in BAE Systems (Operations) Limited Alert Inspection Service Bulletin ISB.57-a071, dated April 12, 2006.

Unsafe Condition

(d) This AD results from a report of a significant crack in the wing top skin under the rib 0 joint strap. We are issuing this AD to detect and correct corrosion and cracking in that area, which could result in reduced structural integrity of the wing.

Compliance

(e) You are responsible for having the actions required by this AD performed within the compliance times specified, unless the actions have already been done.

Inspection

(f) Inspect the airplane at the applicable time specified in paragraph 1.D. “Compliance” of BAE Systems (Operations) Limited Alert Inspection Service Bulletin (ISB) ISB.57-a071, dated April 12, 2006, except, where the service bulletin specifies a compliance time after the date on the service bulletin, this AD requires compliance within the specified compliance time after the effective date of this AD. The inspection required by this paragraph involves an ultrasonic inspection for defects, including corrosion and cracking, of the wing top skin under the rib 0 joint strap, at the outer row of fasteners, by doing all applicable actions specified in the Accomplishment Instructions of the ISB. Do all applicable related investigative and corrective actions before further flight in accordance with the ISB, except as required by paragraph (g) of this AD. Repeat the inspection at intervals not to exceed 4,000 flight cycles or 24 months, whichever occurs first.

Exceptions to ISB Specifications

(g) BAE Systems (Operations) Limited Alert Inspection Service Bulletin (ISB) ISB.57-a071, dated April 12, 2006, specifies two provisions not specified in this AD.

(1) No inspection report is necessary.

(2) As an option, the ISB would allow repairs specified in an approved BAE Systems repair scheme. This AD instead requires any repair using this option in accordance with a method approved by either the Manager, International Branch, ANM-116, Transport Airplane Directorate, FAA; or the European Aviation Safety Agency (or its delegated agent).

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) The subject of this AD is also addressed in European Aviation Safety Agency emergency airworthiness directive 2006-0091-E, dated April 20, 2006.

Issued in Renton, Washington, on June 23, 2006.
Kalene C. Yanamura,
Acting Manager, Transport Airplane Directorate, Aircraft Certification Service.

[FR Doc. E6-10352 Filed 6-30-06; 8:45 am]

BILLING CODE 4910-13-P